DEPARTMENT OF TRANSPORTATION

Office of the Secretary

Application of Exec Air Inc. of Naples D/B/A Execair for Commuter Authority

AGENCY: Department of Transportation.

ACTION: Notice of order to show cause (Order 2016-2-23); Docket DOT-OST-2014-0149.

SUMMARY: The Department of Transportation is directing all interested persons to show cause why it should not issue an order tentatively finding Exec Air Inc. of Naples d/b/a ExecAir fit, willing, and able to provide scheduled passenger service as a commuter air carrier using small aircraft pursuant to Part 135 of the Federal Aviation Regulations.

DATES: Persons wishing to file objections should do so no later than March 11, 2016.

ADDRESSES: Objections and answers to objections should be filed in Docket DOT-OST-2014-0149 and addressed to U.S. Department of Transportation, Docket Operations, (M-30, Room W12-140), 1200 New Jersey Avenue SE., West Building Ground Floor, Washington, DC 20590, and should be served upon the parties listed in Attachment A to the order.

FOR FURTHER INFORMATION CONTACT: Catherine J. O'Toole, Air Carrier Fitness Division (X-56, Room W86-489), U.S. Department of Transportation, 1200 New Jersey Avenue SE., Washington, DC 20590, (202) 366-9721.

Dated: February 26, 2016.
Brandon M. Belford,
Deputy Assistant Secretary for Aviation and International Affairs.

[FR Doc. 2016-04676 Filed 3-2-16; 8:45 am]

BILLING CODE 4910-9X-P